DEPARTMENT OF VETERANS AFFAIRS

Loan Guaranty: Maximum Allowable Foreclosure Timeframes

AGENCY: Department of Veterans Affairs (VA).

ACTION: Notice.

SUMMARY: This notice provides information to participants in the U.S. Department of Veterans Affairs (VA) home loan guaranty program concerning the state foreclosure timeframes allowable in the calculation of the maximum interest payable on a foreclosure of a VA-guaranteed loan. The table in this notice contains the timeframes the Secretary has determined to be reasonable and customary for all states, following an annual review of amounts allowed by other government-related home loan programs.

DATES: The new foreclosure timeframes will be effective for all loan terminations completed on or after January 4, 2016.

FOR FURTHER INFORMATION CONTACT: Andrew Trevayne, Assistant Director for Loan and Property Management, Department of Veterans Affairs, 810 Vermont Ave. NW., Washington, DC 20420, (202) 632-8795 (not a toll-free number).

SUPPLEMENTARY INFORMATION: In accordance with 38 U.S.C. Chapter 37, the VA home loan guaranty program offers a partial guaranty against loss to lenders who make home loans to Veterans. VA regulations concerning the payment of loan guaranty claims are set forth at 38 CFR 36.4300, et seq. Computation of guaranty claims is addressed in 38 CFR 36.4324, which states that one part of the indebtedness upon which the guaranty percentage is applied is the allowable expenses/advances as described in 38 CFR 36.4314 (re-designated from § 36.4814).

The Secretary annually reviews timeframes in connection with the termination of single-family housing loans including foreclosure, deed-in-lieu of foreclosure, and bankruptcy-related services, issued by the Department of Housing and Urban Development (HUD), Fannie Mae, and Freddie Mac. See 38 CFR 36.4322(a). Based on increases announced over the past year by these entities, the Secretary has deemed it necessary to publish in the Federal Register revised timeframes the Secretary now determines reasonable and customary.

The following table represents the Secretary's determination of the reasonable foreclosure timeframes for the preferred method of terminating VA-guaranteed loans and mirrors the timeframes allowed by Fannie Mae. This table will be available throughout the year at: http://www.benefits.va.gov/homeloans/. Pursuant to 38 CFR 36.4314(f)(2) and 36.4324(a)(3)(ii), a guaranty claim can include unpaid interest for a period of up to 210 calendar days from the due date of the last paid installment, in addition to the State calendar day timeframe for foreclosure.¹ These timeframes will be allowed for all loan terminations completed on or after January 4, 2016.

¹ VA will extend the timeframes above, and increase the amount of resultant interest payable under a claim, if VA determines that an acceptable cause prevented the holder from foreclosing timely. For an in-depth explanation of the allowable causes and the procedures for requesting increases, see 38 CFR 36.4314(f)(2), 36.4324(a)(3)(ii), VA Loan Electronic Reporting Interface (VALERI) Servicer guide, and VA's Web site at http://www.benefits.va.gov/homeloans/servicers_valeri.asp.

Jurisdiction | Timeframe (calendar days)
Alabama | 360
Alaska | 450
Arizona | 330
Arkansas | 450
California | 510
Colorado | 420
Connecticut | 750
Delaware | 780
District of Columbia | 300
Florida | 810
Georgia | 330
Guam | 500
Hawaii | 840
Idaho | 540
Illinois | 630
Indiana | 570
Iowa | 630
Kansas | 420
Kentucky | 540
Louisiana | 510
Maine | 690
Maryland | 660
Massachusetts | 440
Michigan | 300
Minnesota | 390
Mississippi | 360
Missouri | 330
Montana | 450
Nebraska | 420
Nevada | 690
New Hampshire | 420
New Jersey | 750
New Mexico | 720
New York—Western Counties ² | 820
New York—Eastern Counties | 990
North Carolina | 450
North Dakota | 630
Ohio | 570
Oklahoma | 570
Oregon | 600
Pennsylvania | 750
Puerto Rico | 720
Rhode Island | 660
South Carolina | 600
South Dakota | 570
Tennessee | 300
Texas | 390
Utah | 540
Vermont | 810
Virgin Islands | 510
Virginia | 390
Washington | 660
West Virginia | 300
Wisconsin | 510
Wyoming | 330

Signing Authority

The Secretary of Veterans Affairs, or designee, approved this document and authorized the undersigned to sign and submit the document to the Office of the Federal Register for publication electronically as an official document of the Department of Veterans Affairs. Robert L. Nabors II, Chief of Staff, Department of Veterans Affairs, approved this document on November 20, 2015, for publication.

² Western Counties of New York for VA are: Allegany, Cattaraugus, Chautauqua, Erie, Genesee, Livingston, Monroe, Niagara, Ontario, Orleans, Steuben, Wayne, Wyoming, and Yates. The remaining counties are in Eastern New York.

Dated: November 30, 2015.
Michael Shores,
Chief Impact Analyst, Office of Regulation Policy & Management, Office of the General Counsel, Department of Veterans Affairs.

[FR Doc. 2015-30592 Filed 12-3-15; 8:45 am]

BILLING CODE 8320-01-P